DEPARTMENT OF TRANSPORTATION

Federal Aviation Administration

14 CFR Part 71

[Docket No. FAA-2022-0436; Airspace Docket No. 22-ASW-1]

RIN 2120-AA66

Proposed Amendment and Establishment of Air Traffic Service (ATS) Routes; South Central United States

AGENCY: Federal Aviation Administration (FAA), DOT.

ACTION: Notice of proposed rulemaking (NPRM).

SUMMARY: This action proposes to amend VHF Omnidirectional Range (VOR) Federal airways V-198, V-212, V-556, and V-558; amend Area Navigation (RNAV) route T-256; and establish RNAV route T-466. The FAA is proposing this action due to the planned decommissioning of the VOR portion of the Eagle Lake, TX (ELA), VOR/Distance Measuring Equipment (VOR/DME) navigational aid (NAVAID). The Eagle Lake VOR is being decommissioned in support of the FAA's VOR Minimum Operational Network (MON) program.

DATES: Comments must be received on or before June 13, 2022.

ADDRESSES: Send comments on this proposal to the U.S. Department of Transportation, Docket Operations, 1200 New Jersey Avenue SE, West Building Ground Floor, Room W12-140, Washington, DC 20590; telephone: 1(800) 647-5527, or (202) 366-9826. You must identify FAA Docket No. FAA-2022-0436; Airspace Docket No. 22-ASW-1 at the beginning of your comments. You may also submit comments through the internet at https://www.regulations.gov.

FAA Order JO 7400.11F, Airspace Designations and Reporting Points, and subsequent amendments can be viewed online at https://www.faa.gov/air_traffic/publications/. For further information, you can contact the Rules and Regulations Group, Federal Aviation Administration, 800 Independence Avenue SW, Washington, DC 20591; telephone: (202) 267-8783.

FOR FURTHER INFORMATION CONTACT: Colby Abbott, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would modify the National Airspace System (NAS) as necessary to preserve the safe and efficient flow of air traffic.

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2022-0436; Airspace Docket No. 22-ASW-1) and be submitted in triplicate to the Docket Management Facility (see ADDRESSES section for address and phone number). You may also submit comments through the internet at https://www.regulations.gov.

Commenters wishing the FAA to acknowledge receipt of their comments on this action must submit with those comments a self-addressed, stamped postcard on which the following statement is made: “Comments to FAA Docket No. FAA-2022-0436; Airspace Docket No. 22-ASW-1.” The postcard will be date/time stamped and returned to the commenter.

All communications received on or before the specified comment closing date will be considered before taking action on the proposed rule. The proposal contained in this action may be changed in light of comments received. All comments submitted will be available for examination in the public docket both before and after the comment closing date. A report summarizing each substantive public contact with FAA personnel concerned with this rulemaking will be filed in the docket.

Availability of NPRMs

An electronic copy of this document may be downloaded through the internet at https://www.regulations.gov. Recently published rulemaking documents can also be accessed through the FAA's web page at https://www.faa.gov/air_traffic/publications/airspace_amendments/.

You may review the public docket containing the proposal, any comments received and any final disposition in person in the Dockets Office (see ADDRESSES section for address and phone number) between 9:00 a.m. and 5:00 p.m., Monday through Friday, except federal holidays. An informal docket may also be examined during normal business hours at the office of the Operations Support Group, Central Service Center, Federal Aviation Administration, 10101 Hillwood Parkway, Fort Worth, TX 76177.

Availability and Summary of Documents for Incorporation by Reference

This document proposes to amend FAA Order JO 7400.11F, Airspace Designations and Reporting Points, dated August 10, 2021, and effective September 15, 2021. FAA Order JO 7400.11F is publicly available as listed in the ADDRESSES section of this document. FAA Order JO 7400.11F lists Class A, B, C, D, and E airspace areas, air traffic service routes, and reporting points.

Background

The FAA is planning to decommission the Eagle Lake, TX, VOR in December 2022. The Eagle Lake VOR was one of the candidate VORs identified for discontinuance by the FAA's VOR MON program and listed in the Final policy statement notice, “Provision of Navigation Services for the Next Generation Air Transportation System (NextGen) Transition to Performance-Based Navigation (PBN) (Plan for Establishing a VOR Minimum Operational Network),” published in the Federal Register of July 26, 2016 (81 FR 48694), Docket No. FAA-2011-1082.

Although the VOR portion of the Eagle Lake VOR/DME is planned for decommissioning, the co-located DME portion of the NAVAID is being retained to support NextGen PBN flight procedure requirements.

The ATS routes effected by the Eagle Lake VOR decommissioning are VOR Federal airways V-198, V-212, V-556, and V-558, and RNAV route T-256. The V-198, V-556, V-558, and T-256 ATS routes are affected directly with the Eagle Lake VOR being included in the route descriptions. Whereas, V-212 is affected based on the navigational guidance the Eagle Lake VOR provides to a segment of the airway between the extended service volume limit of the San Antonio, TX, VOR/Tactical Air Navigation (VORTAC) NAVAID (SEEDS fix) and the intersection of the San Antonio VORTAC and the Industry, TX, VORTAC radials (WEMAR fix). Except for T-256, the planned decommissioning of the Eagle Lake VOR results in the remaining ground-based NAVAID coverage in the area being insufficient to enable the continuity of the affected ATS routes. As such, modifications to V-198 and V-556 would result in creating or extending gaps in the airways and modifications to V-212 and V-558 would result in the airways being shortened. And, modifications to T-256 would include the Eagle Lake VOR/DME route point being removed from the route description.

To overcome the affected ATS route gaps or removed segments, instrument flight rules (IFR) traffic could use portions of adjacent VOR Federal airways V-68 and V-222 to circumnavigate the affected area, or receive air traffic control (ATC) radar vectors to fly through the affected area. Additionally, IFR pilots equipped with RNAV capabilities could use T-200, T-220, and T-256, and the new T-466 proposed in this action, or navigate point to point using the existing fixes that would remain in place to support continued operations though the affected area. Visual flight rules (VFR) pilots who elect to navigate via the affected ATS routes could also take advantage of the adjacent ATS routes or ATC services listed previously.

Further, the FAA proposes to establish RNAV route T-466 between the San Angelo, TX, VORTAC and Sabine Pass, TX, VOR/DME. The proposed T-route would overlay the existing V-556 and, in part, mitigate the proposed removal of the V-556 segment between the Stonewall, TX, VORTAC and the Scholes, TX, VOR/DME. The new T-route would provide airspace users equipped with RNAV capabilities an enroute structure between the San Angelo, TX, area southeastward to the Galveston, TX, area and then northeastward to the Beaumont, TX, area, by transiting north of the San Antonio, TX, and New Braunfels, TX, areas and south of the Houston, TX, area. Lastly, the new T-route would support the FAA's NextGen efforts to modernize the NAS navigation system from a ground-based system to a satellite-based system.

The Proposal

The FAA is proposing an amendment to 14 CFR part 71 to amend VOR Federal airways V-198, V-212, V-556, and V-558; amend RNAV route T-256; and establish RNAV route T-466 due to the planned decommissioning of the Eagle Lake, TX, VOR. The proposed ATS route actions are described below.

V-198: V-198 currently extends between the San Simon, AZ, VORTAC and the Eagle Lake, TX, VOR/DME; and between the Sabine Pass, TX, VOR/DME and the Craig, FL, VORTAC. The FAA proposes to remove the route segment between the San Antonio, TX, VORTAC and the Eagle Lake, TX, VOR/DME. The unaffected portions of the existing airway would remain as charted.

V-212: V-212 currently extends between the San Antonio, TX, VORTAC and the Mc Comb, MS, VORTAC. The FAA proposes to remove the airway segment between the San Antonio, TX, VORTAC and the Industry, TX, VORTAC. The unaffected portions of the existing airway would remain as charted.

V-556: V-556 currently extends between the San Angelo, TX, VORTAC and the Sabine Pass, TX, VOR/DME. The FAA proposes to remove the airway segment between the Stonewall, TX, VORTAC and the Scholes, TX, VOR/DME. The unaffected portions of the existing airway would remain as charted.

V-558: V-558 currently extends between the Llano, TX, VORTAC and the Eagle Lake, TX, VOR/DME. The FAA proposes to remove the airway segment between the Industry, TX, VORTAC and the Eagle Lake, TX, VOR/DME. The unaffected portions of the existing airway would remain as charted.

T-256: T-256 currently extends between the San Antonio, TX, VORTAC and the Sabine, TX, VOR/DME. The FAA proposes to remove the Eagle Lake, TX, VOR/DME route point from the description as it is on a straight segment of the route and does not change the route structure between the San Antonio, TX, VORTAC and the MOLLR, TX, waypoint (WP). Additionally, the FAA proposes to add a RNAV route segment overlaying V-194 between the Sabine, TX, VOR/DME and the DAFLY, LA, WP being established near the Lafayette, LA, VORTAC. The full route legal description is listed in “The Proposed Amendment” section, below.

T-466: T-466 is a proposed new RNAV route that would extend between the San Angelo, TX, VORTAC and the Sabine Pass, TX, VOR/DME. The T-route would overlay the current V-556 and, in part, mitigate the proposed removal of the V-556 segment between the Stonewall, TX, VORTAC and the Scholes, TX, VOR/DME. The new route would provide RNAV routing between the San Angelo, TX, area southeastward to the Galveston, TX, area and then northeastward to the Beaumont, TX, area. The full route legal description is listed in “The Proposed Amendment” section, below.

All NAVAID radials listed in the VOR Federal airway descriptions below are unchanged and stated in True degrees.

VOR Federal airways are published in paragraph 6010(a), and RNAV T-routes are published in paragraph 6011 of FAA Order JO 7400.11F, dated August 10, 2021, and effective September 15, 2021, which is incorporated by reference in 14 CFR 71.1. The ATS routes listed in this document would be published subsequently in FAA Order JO 7400.11.

FAA Order JO 7400.11, Airspace Designations and Reporting Points, is published yearly and effective on September 15.

Regulatory Notices and Analyses

The FAA has determined that this proposed regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures,” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11F, Airspace Designations and Reporting Points, dated August 10, 2021, and effective September 15, 2021, is amended as follows:

Paragraph 6010(a) Domestic VOR Federal Airways.

* * * * *

V-198 [Amended]

From San Simon, AZ; Columbus, NM; El Paso, TX; 6 miles wide INT El Paso 109° and Hudspeth, TX, 287° radials; 6 miles wide Hudspeth; 29 miles, 38 miles 82 MSL INT Hudspeth 109° and Fort Stockton, TX, 284° radials; 18 miles 82 MSL Fort Stockton; 20 miles, 116 miles 55 MSL Junction, TX; to San Antonio, TX. From Sabine Pass, TX; White Lake, LA; Tibby, LA; Harvey, LA; 69 miles, 33 miles 25 MSL Brookley, AL; INT Brookley 056° and Crestview, FL, 266° radials; Crestview; Marianna, FL; Seminole, FL; Greenville, FL; Taylor, FL; INT Taylor 093° and Craig, FL, 287° radials; to Craig.

* * * * *

V-212 [Amended]

From Industry, TX; Navasota, TX; INT Navasota 019° and Lufkin, TX, 250° radials; Lufkin; Alexandria, LA; to Mc Comb, MS.

* * * * *

V-556 [Amended]

From San Angelo, TX; INT San Angelo 181° and Junction, TX, 310° radials; Junction; to Stonewall, TX. From Scholes, TX; to Sabine Pass, TX.

* * * * *

V-558 [Amended]

From Llano, TX; INT Llano 088° and Centex, TX, 306° radials; Centex; to Industry, TX.

* * * * *

Paragraph 6011 United States Area Navigation Routes.

* * * * *

T-256 San Antonio, TX (SAT) to DAFLY, LA [Amended]
San Antonio, TX (SAT) | VORTAC | (Lat. 29°38′38.51″ N, long. 098°27′40.74″ W)
MOLLR, TX | WP | (Lat. 29°39′20.23″ N, long. 095°16′35.83″ W)
Sabine Pass, TX (SBI) | VOR/DME | (Lat. 29°41′12.19″ N, long. 094°02′16.72″ W)
DAFLY, LA | WP | (Lat. 30°11′37.70″ N, long. 091°59′33.94″ W)

* * * * *

T-466 San Angelo, TX (SJT) to Sabine Pass, TX (SBI) [New]
San Angelo, TX (SJT) | VORTAC | (Lat. 31°22′29.84″ N, long. 100°27′17.53″ W)
CHILD, TX | WP | (Lat. 31°03′41.17″ N, long. 100°27′40.62″ W)
Junction, TX (JCT) | VORTAC | (Lat. 30°35′52.88″ N, long. 099°49′02.93″ W)
BETTI, TX | FIX | (Lat. 29°57′54.97″ N, long. 098°03′23.98″ W)
MARCS, TX | FIX | (Lat. 29°53′52.04″ N, long. 097°51′40.70″ W)
SEEDS, TX | FIX | (Lat. 29°39′31.94″ N, long. 097°14′58.66″ W)
LDRET, TX | WP | (Lat. 29°39′44.93″ N, long. 096°19′00.96″ W)
KEEDS, TX | WP | (Lat. 29°21′59.49″ N, long. 095°36′48.98″ W)
Scholes, TX (VUH) | VOR/DME | (Lat. 29°16′09.60″ N, long. 094°52′03.81″ W)
Sabine Pass, TX (SBI) | VOR/DME | (Lat. 29°41′12.19″ N, long. 094°02′16.72″ W)

Issued in Washington, DC, on April 21, 2022.
Scott M. Rosenbloom,
Manager, Airspace Rules and Regulations.

[FR Doc. 2022-08890 Filed 4-26-22; 8:45 am]

BILLING CODE 4910-13-P